DEPARTMENT OF AGRICULTURE

Agricultural Marketing Service

[Doc. No. AMS-FGIS-23-0051]

Opportunity To Comment on Applicants for the Texas Central U.S. Grain Standards Act Designation Area

AGENCY: Agricultural Marketing Service, USDA.

ACTION: Notice and request for comments.

SUMMARY: Plainview Grain Inspection and Weighing Service, Inc. (Plainview) and Grain Inspection Services of Texas, LLC (Texas Grain) have applied for designation to provide official U.S. Grain Standards Act services in the Texas Central designation area. The Agricultural Marketing Service (AMS) is asking for comments on these applicants.

DATES: Comments must be received before December 15, 2023 to be assured consideration.

ADDRESSES: Interested persons are invited to submit written comments concerning this notice and view the applications.

To Submit Comments: All comments must be submitted through the Federal e-rulemaking portal at https://www.regulations.gov and should reference the document number and the date and page number of this issue of the Federal Register. Instructions for submitting and reading comments are detailed on the site. All comments submitted in response to this notice will be included in the record and will be made available for public inspection. Please be advised that the identity of the individuals or entities submitting comments will be made public on the internet at the address provided above.

To Read Applications and Comments: If you would like to view the applications, please contact us at FGISQACD@usda.gov. All comments will be available for public inspection online at https://www.regulations.gov.

FOR FURTHER INFORMATION CONTACT: J. Ricardo Espitia, Compliance Officer, Federal Grain Inspection Service, AMS, USDA; Telephone: (202) 699-0246; or Email: FGISQACD@usda.gov.

SUPPLEMENTARY INFORMATION: In the April 3, 2023, Federal Register (88 FR 19605), AMS asked persons interested in providing official U.S. Grain Standards Act services in the Texas Central designation area to submit an application. There are two applicants for the Texas Central area: Plainview Grain Inspection and Weighing Service, Inc. (Plainview) and Grain Inspection Services of Texas, LLC (Texas Grain). Plainview is currently a designated official agency, and Texas Grain is a new business requesting designation. Plainview applied for designation to provide official services for part of the unassigned Texas Central area, specifically, Coke, Coleman, Ector, Glasscock, Midland, Runnels, Sterling, and Winkler counties. Texas Grain applied for the entire unassigned area.

The unassigned area in the state of Texas includes the counties of: Anderson, Angelina, Atascosa, Austin, Bandera, Bastrop, Bell, Bexar, Blanco, Bosque, Brazos, Brewster, Brown, Burleson, Burnet, Caldwell, Camp, Cherokee, Coke, Coleman, Collin, Comal, Comanche, Concho, Cooke, Coryell, Crane, Crockett, Culberson, Dallas, Delta, Denton, DeWitt, Eastland, Ector, Edwards, Ellis, El Paso, Erath, Falls, Fannin, Fayette, Franklin, Freestone, Frio, Gillespie, Glasscock, Gonzales, Grayson, Gregg, Grimes, Guadalupe, Hamilton, Hardin, Harrison, Hays, Henderson, Hill, Hood, Hopkins, Houston, Hudspeth, Hunt, Irion, Jack, Jasper, Jeff Davis, Johnson, Karnes, Kaufman, Kendall, Kerr, Kimble, Kinney, Lamar, Lampasas, Lavaca, Lee, Leon, Liberty, Limestone, Llano, Loving, McCulloch, McLennan, Madison, Marion, Mason, Maverick, Medina, Menard, Midland, Milam, Mills, Montague, Montgomery, Morris, Nacogdoches, Navarro, Newton, Orange, Palo Pinto, Panola, Parker, Pecos, Polk, Presidio, Rans, Reagan, Real, Red River, Reeves, Robertson, Rockwall, Runnels, Risk, Sabine, San Augustine, San Jacinto, San Saba, Schleicher, Shelby, Smith, Somervell, Stephens, Sterling, Sutton, Tarrant, Terrell, Titus, Tom Green, Travis, Trinity, Tyler, Upshur, Upton, Uvalde, Val Verde, Van Zandt, Walker, Ward, Washington, Williamson, Wilson, Winkler, Wise, Wood, Young, and Zavala. This area excludes any established or future export port locations, which are serviced by FGIS.

AMS is publishing this notice to provide interested persons the opportunity to comment on the quality of services provided by Plainview and Texas Grain. In the designation process, comments citing reasons and pertinent data supporting or objecting to the designation of the applicant(s) are particularly helpful. All comments will also become a matter of public record and made available for public inspection at https://www.regulations.gov.

AMS considers applications, comments, and other available information, such as audit reports, when determining which applicants will be designated.

Authority: 7 U.S.C. 71-87k.

Melissa Bailey,
Associate Administrator, Agricultural Marketing Service.

[FR Doc. 2023-25144 Filed 11-14-23; 8:45 am]

BILLING CODE P